DEPARTMENT OF COMMERCE

Foreign-Trade Zones Board

[B-25-2014]

Foreign-Trade Zone (FTZ) 90—Onondaga County, New York; Notification of Proposed Production Activity; PPC Broadband, Inc. (Coaxial Cable Connectors); Dewitt, New York

The Onondaga County Office of Economic Development, grantee of FTZ 90, submitted a notification of proposed production activity to the FTZ Board on behalf of PPC Broadband, Inc. (PPC Broadband), located in Dewitt, New York. The notification conforming to the requirements of the regulations of the FTZ Board (15 CFR 400.22) was received on March 10, 2014.

A separate application for subzone designation at the PPC Broadband facilities is being submitted and will be processed under Section 400.38 of the FTZ Board's regulations. The facilities are used for the production of coaxial cable connectors. Pursuant to 15 CFR 400.14(b), FTZ activity would be limited to the specific foreign-status materials and components and specific finished products described in the submitted notification (as described below) and subsequently authorized by the FTZ Board.

Production under FTZ procedures could exempt PPC Broadband from customs duty payments on the foreign-status components used in export production. On its domestic sales, PPC Broadband would be able to choose the duty rate during customs entry procedures that applies to coaxial cable connectors (duty free) for the foreign-status inputs noted below. Customs duties also could possibly be deferred or reduced on foreign status production equipment.

The components and materials sourced from abroad include: connector posts, connector bodies, connector nuts, molded plastic connector parts, silicone o-rings, and rubber o-rings (duty rates are 2.5% or 3.5%).

Public comment is invited from interested parties. Submissions shall be addressed to the FTZ Board's Executive Secretary at the address below. The closing period for their receipt is May 5, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: March 14, 2014.
Andrew McGilvray,
Executive Secretary.

[FR Doc. 2014-06584 Filed 3-24-14; 8:45 am]

BILLING CODE 3510-DS-P